Proclamation 8224 of February 29, 2008

National Consumer Protection Week, 2008

By the President of the United States of America

A Proclamation

As we face new challenges in the 21st century, we must work to ensure that Americans are kept safe in the marketplace. During National Consumer Protection Week, as my Administration works with Congress to improve our consumer product safety system, we also encourage Americans to make informed financial decisions and take advantage of the resources that can help them become responsible consumers, savers, and investors.

This year's theme for National Consumer Protection Week, “Financial Literacy: A Sound Investment,” encourages consumers to take steps to build a firm financial foundation. By becoming informed consumers, individuals can help plan for their future, protect their identity, and effectively manage their finances. It is important for citizens to be knowledgeable on financial matters such as choosing a health insurance plan, comparing savings and retirement plans, and realizing how credit scores can affect them. Education is the first line of defense in helping consumers manage their money wisely and safeguard themselves against fraud and identity theft.

My Administration is working to expand the American people's financial education. In January of this year, I signed an Executive Order establishing the President's Advisory Council on Financial Literacy. This Council will help keep America competitive and assist Americans in understanding and addressing financial matters. By visiting consumer.gov and mymoney.gov, Americans can discover the tools they need to make financial decisions and be successful in today's marketplace.

NOW, THEREFORE, I, GEORGE W. BUSH, President of the United States of America, by virtue of the authority vested in me by the Constitution and laws of the United States, do hereby proclaim March 2 through March 8, 2008, as National Consumer Protection Week. I call upon Government officials, industry leaders, and consumer advocates to make available information about how citizens can help to prevent fraud and identity theft, and I encourage all Americans to gain the financial literacy they need to compete in the 21st century.

IN WITNESS WHEREOF, I have hereunto set my hand this twenty-ninth day of February, in the year of our Lord two thousand eight, and of the Independence of the United States of America the two hundred and thirty-second.

[FR Doc. 08-977

Filed 3-4-08; 8:55 am]

Billing code 3195-01-P